DEPARTMENT OF COMMERCE

National Oceanic and Atmospheric Administration

RIN 0648-XB154

Marine Mammals; File No. 16388

AGENCY: National Marine Fisheries Service (NMFS), National Oceanic and Atmospheric Administration (NOAA), Commerce.

ACTION: Notice; issuance of permit.

SUMMARY: Notice is hereby given that a permit has been issued to Mark Baumgartner, Ph.D., Woods Hole Oceanographic Institution, MS#33 Biology Department, Woods Hole, MA 02543, to conduct research on humpback whales (Megaptera novaeangliae), fin whales (Balaenoptera physalus), blue whales (B. musculus), sei whales (B. borealis), bowhead whales (Balaena mysticetus), North Atlantic right whales (Eubalaena glacialis), North Pacific right whales (E. japonica), and Eastern North Pacific gray whales (Eschrichtius robustus).

ADDRESSES: The permit and related documents are available for review upon written request or by appointment in the following offices: See SUPPLEMENTARY INFORMATION.

FOR FURTHER INFORMATION CONTACT: Carrie Hubard or Amy Hapeman, (301) 427-8401.

SUPPLEMENTARY INFORMATION: On May 29, 2012, notice was published in the Federal Register (77 FR 31585) that a request for a permit to conduct research on baleen whales had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 16388 authorizes research on the diving behavior and foraging ecology of baleen whales in the northwest Atlantic from Maine to Florida; Canadian waters of the Gulf of Maine, Labrador Sea, Davis Strait, Baffin Bay, and Hudson Bay; waters off the U.S. North Pacific (California to Washington); and the Arctic Ocean including Bering, Chukchi and Beaufort Seas. Species to be targeted are humpback, fin, blue, sei, bowhead, North Atlantic right and North Pacific right, and Eastern North Pacific gray whales. Activities include vessel surveys for passive acoustic recording, dermal and suction cup tagging, behavioral observations, photo-id, and tracking. The permit is valid until April 30, 2018.

An environmental assessment (EA) was prepared analyzing the effects of the permitted activities on the human environment in compliance with the National Environmental Policy Act of 1969 (42 U.S.C. 4321 et seq.). Based on the analyses in the EA, NMFS determined that issuance of the permit would not significantly impact the quality of the human environment and that preparation of an environmental impact statement was not required. That determination is documented in a Finding of No Significant Impact (FONSI), signed on April 15, 2013.

As required by the ESA, issuance of this permit was based on a finding that such permit: (1) Was applied for in good faith; (2) will not operate to the disadvantage of such endangered species; and (3) is consistent with the purposes and policies set forth in section 2 of the ESA.

Documents may be reviewed in the following locations:

Permits and Conservation Division, Office of Protected Resources, NMFS, 1315 East-West Highway, Room 13705, Silver Spring, MD 20910; phone (301) 427-8401; fax (301) 713-0376;

Northwest Region, NMFS, 7600 Sand Point Way NE., BIN C15700, Bldg. 1, Seattle, WA 98115-0700; phone (206) 526-6150; fax (206) 526-6426;

Alaska Region, NMFS, P.O. Box 21668, Juneau, AK 99802-1668; phone (907) 586-7221; fax (907) 586-7249;

Southwest Region, NMFS, 501 West Ocean Blvd., Suite 4200, Long Beach, CA 90802-4213; phone (562) 980-4001; fax (562) 980-4018;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Dated: April 25, 2013.
P. Michael Payne,
Chief, Permits and Conservation Division, Office of Protected Resources, National Marine Fisheries Service.

[FR Doc. 2013-10223 Filed 4-30-13; 8:45 am]

BILLING CODE 3510-22-P